DEPARTMENT OF LABOR

Agency Information Collection Activities; Submission for OMB Review; Comment Request, National Database of Childcare Prices, Reinstatement With Change

AGENCY: Women's Bureau, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data for the National Database of Childcare Prices. A copy of the proposed Information Collection Request (ICR) can be obtained by contacting the office listed below in the addressee section of this notice.

DATES: Written comments must be submitted to the office listed in the addressee section below on or before September 5, 2023.

ADDRESSES: You may submit comments by either one of the following methods:

Email: ndcp@dol.gov; Mail or Courier: U.S. Department of Labor, Women's Bureau, Room S-3002, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: For specific questions related to collection activities, contact Liana Christin Landivar by telephone at (202) 693-6713 or by email at ndcp@dol.gov.

SUPPLEMENTARY INFORMATION:

I. Background: This proposed information collection seeks to update the National Database of Childcare Prices (NDCP). The NDCP is the most comprehensive federal source of childcare prices at the county level. The NDCP was first made available to the public in 2022 and it currently provides data for the years 2008 through 2018. The NDCP is based on data collected by each state in their childcare market rate surveys (MRS). State-administered MRS are conducted by state human services or workforce development offices (i.e., Lead Agencies) according to federal regulations to receive Child Care and Development Block Grants (CCDBG). MRS provide market prices of various types of child care (e.g., center-based, home-based) by age of children (e.g., infants, toddlers, preschoolers, school-age children) and by geography. MRS are used to establish reimbursement rates for childcare subsidies. MRS sample eligible centers and care providers in the priced market and obtain the full market price of care. MRS data are a rich source of local childcare price data. However, these data are not reported to the federal government and they are retained by the states. As a result, reporting metrics are not standardized across states and some of the data is not accessible to the public.

MRS are currently collected in three-year cycles. The most current MRS data collection cycle reflects the years 2019 through 2021. Some states may have applied for waivers and conducted data collection or reporting activities in 2022 due to disruptions caused by the COVID-19 pandemic. This information collection would request MRS data for surveys conducted between 2019 and 2022 from all states and the District of Columbia. Data requested would have already been collected by each state to meet federal regulations; no new data collection obligation is created. The Department of Labor would reconcile measures for uniformity across the states and geography would be standardized at the county level to be able to combine these data for analysis with county characteristics that are publicly available from the American Community Survey. The resulting database (NDCP) would be evaluated to protect respondent confidentiality, implementing proper disclosure avoidance techniques in counties with small samples. The database would be made available to the public as a research tool to understand childcare prices at the county level and changes in childcare prices over time. Section 2 of Public Law 66-259 that established the Women's Bureau authorizes this information collection. See 29 U.S.C. 13.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

II. Desired Focus of Comments: This Federal Register Notice provides the opportunity to comment on the proposed data collection. The Department of Labor is particularly interested in comments that do the following:

○ Evaluate whether the proposed collection of information is necessary for the proper performance functions of the agency, including whether the information will have practical utility;

○ Evaluate the accuracy of the agency's burden estimate of the proposed information collection, including the validity of the methodology and assumptions;

○ Enhance the quality, utility, and clarity of the information to be collected; and

○ Minimize the burden of the collection of information on those who are to respond, including through the use of appropriate automated, electronic, mechanical, or other technological collection techniques or other forms of information technology—for example, permitting electronic submissions of responses.

III. Current Actions: At this time, the Department of Labor is requesting clearance to request market rate survey data collected by the states and the District of Columbia between 2019 and 2022 to update the National Database of Childcare Prices.

Type of Review: Reinstatement with Change.

OMB Control Number: 1290-0025.

Affected Public: State, Local, and Tribal Governments.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Collection of market rate survey reports and data files ¹ | 51 | 1 | 51 | 2 | 102
¹ State government agencies (Lead Agencies) will submit electronic copies of market rate survey reports and data files they have available for the years 2019 through 2022.

Wendy Chun-Hoon,
Director, Women's Bureau, U.S. Department of Labor.

[FR Doc. 2023-14211 Filed 7-5-23; 8:45 am]

BILLING CODE 4510-HD-P